INTERNATIONAL TRADE COMMISSION

[Investigation No. 337-TA-909]

Certain Non-Volatile Memory Devices and Products Containing Same Institution of Investigation Pursuant to 19 U.S.C. 1337

AGENCY: U.S. International Trade Commission.

ACTION: Notice.

SUMMARY: Notice is hereby given that a complaint was filed with the U.S. International Trade Commission on December 27, 2013, under section 337 of the Tariff Act of 1930, as amended, 19 U.S.C. 1337, on behalf of Macronix International Co., Ltd. of Taiwan and Macronix America, Inc. of Milpitas, California. A revised complaint was filed on December 31, 2013, and a letter supplementing the revised complaint was filed on January 14, 2014. The revised complaint alleges violations of section 337 based upon the importation into the United States, the sale for importation, and the sale within the United States after importation of certain non-volatile memory devices and products containing the same by reason of infringement of U.S. Patent No. 6,552,360 (“the '360 patent”); U.S. Patent No. 6,100,557 (“the '557 patent”); and 6,002,630 (“the '630 patent”). The revised complaint further alleges that an industry in the United States exists or is in the process of being established as required by subsection (a)(2) of section 337.

The complainants request that the Commission institute an investigation and, after the investigation, issue a general exclusion order and cease and desist orders.

ADDRESSES: The revised complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2013).

Scope of Investigation: Having considered the revised complaint, the U.S. International Trade Commission, on January 28, 2014, ordered that—

(1) Pursuant to subsection (b) of section 337 of the Tariff Act of 1930, as amended, an investigation be instituted to determine whether there is a violation of subsection (a)(1)(B) of section 337 in the importation into the United States, the sale for importation, or the sale within the United States after importation of certain non-volatile memory devices and products containing the same by reason of infringement of one or more of claims 1-8 of the '360 patent; claims 1-3, 7, and 9-13 of the '557 patent; and claims 1-6 and 10-16 of the '630 patent, and whether an industry in the United States exists or is in the process of being established as required by subsection (a)(2) of section 337;

(2) Pursuant to Commission Rule 210.50(b)(1), 19 CFR 210.50(b)(1), the presiding administrative law judge shall take evidence or other information and hear arguments from the parties and other interested persons with respect to the public interest in this investigation, as appropriate, and provide the Commission with findings of fact and a recommended determination on this issue, which shall be limited to the statutory public interest factors set forth in 19 U.S.C. 1337(d)(1), (f)(1), (g)(1);

(3) For the purpose of the investigation so instituted, the following are hereby named as parties upon which this notice of investigation shall be served:

(a) The complainants are:

Macronix International Co., Ltd., No. 16, Li-Hsin Road, Science Park, Hsin-chu, Taiwan.

Macronix America, Inc., 680 North McCarthy Boulevard, Suite 200, Milpitas, CA 95035.

(b) The respondents are the following entities alleged to be in violation of section 337, and are the parties upon which the revised complaint is to be served:

Spansion, Inc., 915 DeGuigne Drive, Sunnyvale, CA 94085.

Spansion LLC, 915 DeGuigne Drive, Sunnyvale, CA 94085.

Spansion (Thailand) Ltd., 229 Moo 4 Changwattana Road, Pakkred, Nonthaburi 11120, Thailand.

Beats Electronics LLC, 1601 Cloverfield Boulevard, Suite 5000N, Santa Monica, CA 90404.

Delphi Automotive PLC, Courteney Road, Hoath Way, Gillingham, Kent ME8 0RU, United Kingdom.

Delphi Automotive Systems, LLC, 5725 Delphi Drive, Troy, MI 48098.

Harman International Industries, Inc., 400 Atlantic Street, Suite 1500, Stamford, CT 06901.

Harman Becker Automotive Systems, Inc., 39001 West 12 Mile Road, Farmington Hills, MI 48331.

Harman Becker Automotive Systems GmbH, Becker-Goering-Strasse 16, 76307 Karlsbad, Germany.

Ruckus Wireless, Inc., 350 West Java Drive, Sunnyvale, CA 94089.

Tellabs, Inc., 1415 West Diehl Road, Naperville, IL 60563.

(c) The Office of Unfair Import Investigations, U.S. International Trade Commission, 500 E Street SW., Suite 401, Washington, DC 20436; and

(4) For the investigation so instituted, the Chief Administrative Law Judge, U.S. International Trade Commission, shall designate the presiding Administrative Law Judge.

Responses to the revised complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the revised complaint and the notice of investigation. Extensions of time for submitting responses to the revised complaint and the notice of investigation will not be granted unless good cause therefor is shown.

Failure of a respondent to file a timely response to each allegation in the revised complaint and in this notice may be deemed to constitute a waiver of the right to appear and contest the allegations of the revised complaint and this notice, and to authorize the administrative law judge and the Commission, without further notice to the respondent, to find the facts to be as alleged in the revised complaint and this notice and to enter an initial determination and a final determination containing such findings, and may result in the issuance of an exclusion order or a cease and desist order or both directed against the respondent.

Issued: January 29, 2014.
By order of the Commission.
Lisa R. Barton,
Acting Secretary to the Commission.

[FR Doc. 2014-02154 Filed 1-31-14; 8:45 am]

BILLING CODE 7020-02-P